COMMISSION ON CIVIL RIGHTS

Agenda and Notice of Public Meeting of the Florida Advisory Committee

Notice is hereby given, pursuant to the provisions of the rules and regulations of the U.S. Commission on Civil Rights, that a meeting with briefing of the Florida Advisory Committee to the Commission will convene at 1 p.m. and adjourn at 5 p.m. on Friday, September 28, 2001, at the Hyatt Regency Tampa, Two Tampa City Center, Tampa, Florida 33602. The purpose of the meeting with briefing is to receive information from minority business leaders, St. Petersburg city officials, public housing tenants, students and officials of the University of South Florida regarding the US Department of Housing and Urban Development's Hope VI program in Tampa and St. Petersburg; and the City contracts in Tampa, and the University of South Florida's athletic program.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, September 10, 2001.
Ivy L. Davis,
Chief, Regional Programs Coordination Unit.

[FR Doc. 01-23093 Filed 9-14-01; 8:45 am]

BILLING CODE 6335-01-P